DEPARTMENT OF ENERGY

Federal Energy Regulatory Commission

Combined Notice of Filings #1

October 16, 2007.

Take notice that the Commission received the following exempt wholesale generator filings:

Docket Numbers: EG08-4-000.

Applicants: FPL Energy Oliver Wind II, LLC.

Description: Notice of Self Certification of Exempt Wholesale Generator Status of FPL Energy Oliver Wind II, LLC.

Filed Date: 10/15/2007.

Accession Number: 20071015-5021.

Comment Date: 5 p.m. Eastern Time on Monday, November 5, 2007.

Docket Numbers: EG08-5-000.

Applicants: Marble River, LLC.

Description: Notice of Self-Certification of Exempt Wholesale Generator Status of Marble River, LLC.

Filed Date: 10/15/2007.

Accession Number: 20071015-5075.

Comment Date: 5 p.m. Eastern Time on Monday, November 5, 2007.

Take notice that the Commission received the following electric rate filings:

Docket Numbers: ER00-2268-023; ER99-4124-020; ER99-4122-024; ER07-428-002.

Applicants: Pinnacle West Capital Corporation; Arizona Public Service Company; APS Energy Services Company, Inc.; Pinnacle West Marketing & Trading Company.

Description: Pinnacle West Capital Corp et al. submit a compliance filing pursuant to the Commission order issued 8/13/07.

Filed Date: 10/12/2007.

Accession Number: 20071015-0294.

Comment Date: 5 p.m. Eastern Time on Friday, November 2, 2007.

Docket Numbers: ER01-1526-007; ER02-2080-006; ER02-2546-007; ER97-705-017; ER99-1213-007; ER99-2251-006; ER99-2252-007; ER99-3248-009.

Applicants: Newington Energy, LLC.; Ocean Peaking Power, LLC; CED Rock Springs, Inc.; Promark Energy Inc.; Lakewood Cogeneration LP; Consolidated Edison Company of New York; Orange & Rockland Utilities, Inc.; ConEdison Energy Massachusetts, Inc.

Description: Consolidated Edison Energy, Inc, et al., submits a notice of non-material change in status in compliance with the reporting requirements.

Filed Date: 10/10/2007.

Accession Number: 20071012-0112.

Comment Date: 5 p.m. Eastern Time on Wednesday, October 31, 2007.

Docket Numbers: ER02-999-006; ER05-320-004; ER97-2460-009; ER97-2463-006.

Applicants: Unitil Power Corporation; Unitil Energy Systems, Inc.; Unitil Power Corporation; Fitchburg Gas & Electric Light Company.

Description: Unitil Energy Systems, Inc., et al., submit a request for exemption from filing requirements applicable to Category 2 Sellers pursuant to Order 697.

Filed Date: 10/10/2007.

Accession Number: 20071012-0111.

Comment Date: 5 p.m. Eastern Time on Wednesday, October 31, 2007.

Docket Numbers: ER06-1014-004.

Applicants: New York Independent System Operator, Inc.

Description: Compliance Filing of the New York Independent System Operator, Inc.

Filed Date: 10/15/2007.

Accession Number: 20071015-5077.

Comment Date: 5 p.m. Eastern Time on Monday, November 5, 2007.

Docket Numbers: ER07-1236-002.

Applicants: Yuma Cogeneration Associates.

Description: Yuma Cogeneration Associates submits revisions to its proposed market-based rate tariff.

Filed Date: 10/12/2007.

Accession Number: 20071015-0037.

Comment Date: 5 p.m. Eastern Time on Friday, October 26, 2007.

Docket Numbers: ER07-1332-001.

Applicants: Smoky Hills Wind Farm, LLC.

Description: Smoky Hills Wind Farm, LLC submits amendment to its application for order accepting market-based rate tariff, granting waivers and blanket authority.

Filed Date: 10/12/2007.

Accession Number: 20071015-0036.

Comment Date: 5 p.m. Eastern Time on Monday, October 22, 2007.

Docket Numbers: ER08-38-000.

Applicants: Northern Renewable Energy (USA), Ltd.

Description: Northern Renewable Energy submits an Application for Market-Based Rate Authorization and Request for Waivers and Blanket Authorizations.

Filed Date: 10/10/2007.

Accession Number: 20071012-0110.

Comment Date: 5 p.m. Eastern Time on Wednesday, October 31, 2007.

Docket Numbers: ER08-39-000.

Applicants: CL Power Sales Two, LLC.

Description: CL Power Sales Two, LLC submits a Notice of Cancellation of its FERC Electric Tariffs.

Filed Date: 10/11/2007.

Accession Number: 20071012-0109.

Comment Date: 5 p.m. Eastern Time on Thursday, November 1, 2007.

Docket Numbers: ER08-40-000.

Applicants: PJM Interconnection, LLC.

Description: PJM Interconnection, LLC. submits an executed interconnection service agreement with Conectiv Delmarva Generation.

Filed Date: 10/11/2007.

Accession Number: 20071015-0027.

Comment Date: 5 p.m. Eastern Time on Thursday, November 1, 2007.

Docket Numbers: ER08-41-000.

Applicants: ISO New England Inc. and New England Power Pool Participants Committee.

Description: ISO New England Inc and New England Power Pool Participants Committee submits materials which identify the installed capacity requirement, Hydro Quebec Interconnection Capability Credits.

Filed Date: 10/11/2007.

Accession Number: 20071015-0028.

Comment Date: 5 p.m. Eastern Time on Thursday, November 1, 2007.

Docket Numbers: ER08-42-000.

Applicants: CL Power Sales Seven, LLC.

Description: CL Power Sales Seven, LLC. submits notice of cancellation of its FERC Electric Tariffs.

Filed Date: 10/12/2007.

Accession Number: 20071015-0019.

Comment Date: 5 p.m. Eastern Time on Friday, November 2, 2007.

Docket Numbers: ER08-43-000.

Applicants: American Electric Power Service Corp.

Description: American Electric Power Service Corp on behalf of Appalachian Power Company submits notice of cancellation for a letter agreement dated 2/9/04 filed as Original Service Agreement 610.

Filed Date: 10/12/2007.

Accession Number: 20071015-0020.

Comment Date: 5 p.m. Eastern Time on Friday, November 2, 2007.

Docket Numbers: ER08-44-000.

Applicants: Midwest Independent Power Suppliers.

Description: Midwest Independent Transmission System Operator, Inc submits amended and restated small generation interconnection agreement among Cisco Wind Energy, LLC.

Filed Date: 10/12/2007.

Accession Number: 20071015-0021.

Comment Date: 5 p.m. Eastern Time on Friday, November 2, 2007.

Docket Numbers: ER08-45-000.

Applicants: Consolidated Edison Co. of New York, Inc.

Description: Consolidated Edison Company of New York Inc's request for limited one-time waiver of tariff provision and expedited treatment.

Filed Date: 10/12/2007.

Accession Number: 20071015-0022.

Comment Date: 5 p.m. Eastern Time on Friday, November 2, 2007.

Docket Numbers: ER08-46-000.

Applicants: Southern Company Services, Inc.

Description: Southern Company Services, Inc. as agent for Southern Companies submits a notice of cancellation.

Filed Date: 10/12/2007.

Accession Number: 20071015-0023.

Comment Date: 5 p.m. Eastern Time on Friday, November 2, 2007.

Docket Numbers: ER08-47-000.

Applicants: Mississippi Power Company.

Description: Southern Company Services, Inc. as agent for Mississippi Power Company and Gulf Power Company submits transmission facilities agreement.

Filed Date: 10/12/2007.

Accession Number: 20071015-0024.

Comment Date: 5 p.m. Eastern Time on Friday, November 2, 2007.

Docket Numbers: ER08-48-000.

Applicants: Progress Energy Florida, Inc.

Description: Florida Power Corporation dba Progress Energy Florida, Inc's CD containing its standard large generator interconnection agreement with Vandolah Power Company for the generating facility that Vandolah operates in Hardee County, FL.

Filed Date: 10/12/2007.

Accession Number: 20071012-4010.

Comment Date: 5 p.m. Eastern Time on Friday, November 2, 2007.

Take notice that the Commission received the following electric securities filings:

Docket Numbers: ES07-35-001.

Applicants: Entergy Gulf States Louisiana, LLC.

Description: Form 523—Supplemental to application concerning request for permission to issue securities of Entergy Gulf States, Inc.

Filed Date: 10/12/2007.

Accession Number: 20071012-5049.

Comment Date: 5 p.m. Eastern Time on Friday, November 2, 2007.

Docket Numbers: ES07-36-001.

Applicants: Entergy Texas, Inc.

Description: Supplement to application Concerning Request for Permission to Issue Securities of Entergy Gulf States, Inc.

Filed Date: 10/12/2007.

Accession Number: 20071012-5050.

Comment Date: 5 p.m. Eastern Time on Friday, November 2, 2007.

Docket Numbers: ES07-67-001.

Applicants: National Grid USA.

Description: Amendment to and Notice of Partial Withdrawal of Application for Authorization to Issue Securities Under Section 204 of the Federal Power Act, and Motion for Waiver of 15-Day Waiting Period Under Commission Rule 216 of National Grid USA.

Filed Date: 10/15/2007.

Accession Number: 20071015-5140.

Comment Date: 5 p.m. Eastern Time on Monday, November 5, 2007.

Take notice that the Commission received the following open access transmission tariff filings:

Docket Numbers: OA08-12-000.

Applicants: California Independent System Operator Corporation.

Description: California Independent System Operator Corp submits this filing to comply with the non-transmission planning requirements of Order 890.

Filed Date: 10/11/2007.

Accession Number: 20071015-0029.

Comment Date: 5 p.m. Eastern Time on Thursday, November 1, 2007.

Docket Numbers: OA08-13-000.

Applicants: New York Independent System Operator, Inc.

Description: New York Independent System Operator, Inc's revisions to their Open Access Transmission Tariff to bring it into conformance with Order 890's requirements.

Filed Date: 10/12/2007.

Accession Number: 20071015-0030.

Comment Date: 5 p.m. Eastern Time on Friday, November 2, 2007.

Docket Numbers: OA08-14-000.

Applicants: Midwest Independent Transmission System Operator, Inc.

Description: Midwest Independent Transmission System Operator, Inc's compliance filing revising the non-rate terms and conditions of its OATT and Energy Markets Tariff pur to FERC's 2/16/07 Final Rule, Order 890.

Filed Date: 10/11/2007.

Accession Number: 20071015-0031.

Comment Date: 5 p.m. Eastern Time on Thursday, November 1, 2007.

Docket Numbers: OA08-15-000.

Applicants: Oklahoma Gas and Electric Company.

Description: Order No. 890 OATT of Oklahoma Gas and Electric Company.

Filed Date: 10/11/2007.

Accession Number: 20071011-5102.

Comment Date: 5 p.m. Eastern Time on Thursday, November 1, 2007.

Docket Numbers: OA07-27-001.

Applicants: E ON U.S., LLC.

Description: Louisville Gas and Electric Co et al. submits a compliance filing re-proposed modifications to Schedules 4 and 9 of the OATT.

Filed Date: 10/10/2007.

Accession Number: 20071012-0100.

Comment Date: 5 p.m. Eastern Time on Wednesday, October 31, 2007.

Docket Numbers: OA07-70-001.

Applicants: Idaho Power Company.

Description: Idaho Power Co submits a compliance filing re proposed modifications to Schedule 11 of the OATT in compliance with FERC's 9/10/07 Order and submit an errata to this filing on 10/15/07.

Filed Date: 10/10/2007; 10/15/2007.

Accession Number: 20071012-0101.

Comment Date: 5 p.m. Eastern Time on Wednesday, October 31, 2007.

Take notice that the Commission received the following public utility holding company filings:

Docket Numbers: PH08-2-000.

Applicants: Southwestern Energy Co.

Description: FERC Form 65 A Exemption Notification of Southwestern Energy Company.

Filed Date: 10/15/2007.

Accession Number: 20071015-5049.

Comment Date: 5 p.m. Eastern Time on Monday, November 5, 2007.

Take notice that the Commission received the following electric reliability filings:

Docket Numbers: RR08-1-000.

Applicants: North American Electric Reliability Corp.

Description: North American Electric Reliability Corp requests FERC's approval of Section 1600 of be added to the NERC Rules of Procedure.

Filed Date: 10/12/2007.

Accession Number: 20071015-0025.

Comment Date: 5 p.m. Eastern Time on Thursday, November 15, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Acting Deputy Secretary.

[FR Doc. E7-20791 Filed 10-22-07; 8:45 am]

BILLING CODE 6717-01-P